DEPARTMENT OF HEALTH AND HUMAN SERVICES

Substance Abuse and Mental Health Services Administration

Announcement of Requirements and Registration for the “Stay Covered Challenge” and the “Churn Marketing Research Methodology Development Challenge”

Authority: 15 U.S.C. 3719.

AGENCY: Substance Abuse and Mental Health Services Administration, HHS.

ACTION: Notice.

SUMMARY: The Substance Abuse and Mental Health Services Administration (SAMHSA), an operating division of the U.S. Department of Health and Human Services, is announcing a new opportunity for individuals and organizations to help solve a critical problem in today's health environment. Specifically, there are high levels of involuntary breaks in health insurance coverage among the non-elderly population in the United States. These breaks are referred to as “churning”—when people transition from one source of insurance coverage to another when eligibility for assistance changes. Churning makes programs more complicated and costly to administer and can interrupt continuity of care, create gaps in coverage, reduce health plans' incentive to invest in their members' long-term wellness, and interfere with the accurate and comprehensive measurement of health care quality.

According to a study by the Urban Institute, a total of 29.4 million people will have their eligibility status change each year beginning in 2014 ¹. This challenge aligns with SAMHSA's mission to reduce the impact of mental and substance use disorders on America's communities. SAMHSA recognizes that enrollment in health insurance plays a significant role in fulfilling this mission, from preventive health care to behavioral health treatment and recovery. The National Survey on Drug Use and Health estimates that of the individuals currently uninsured and expected to be covered under the Affordable Care Act, 11 million will have a behavioral health need. The literature on the causes of breaks in coverage (i.e., income, housing volatility), and the high prevalence of behavioral health conditions among the uninsured, points to an interrelationship between behavioral health symptoms and difficulties complying with administrative requirements in applying for and maintaining continuous coverage.

Additionally, churning has a significant amount of administrative as well as health costs, and there is a disproportionate impact of this problem among individuals with behavioral health disorders. Therefore, SAMHSA is announcing two challenge projects to help develop innovative solutions to the barriers to developing a communications strategy targeting individuals who experience churn.

The statutory authority for this challenge competition is section 105 of the America Creating Opportunities to Meaningfully Promote Excellence in Technology, Education, and Science Reauthorization Act of 2010 (COMPETES Act).

DATES: Challenge submissions accepted until August 31, 2013.

FOR FURTHER INFORMATION CONTACT: Kevin J. Malone, 1 Choke Cherry Road, Room 8-1014, Rockville, MD 20857, Office: 240.276.2239, Email: kevin.malone@samhsa.hhs.gov.

SUPPLEMENTARY INFORMATION:

Subject of Challenge Competitions

SAMHSA is interested in identifying individuals from a marketing perspective who experience churn, and in developing innovative strategies for targeting them. SAMHSA has access to relatively good data on the individuals who are covered by Medicaid, based on disability, and the providers and community-based organizations that serve them. However, SAMHSA has very little capacity to identify the individuals among the uninsured who were disenrolled but remain eligible.

SAMHSA's strategy is to use the following two challenges to strengthen communication with individuals in both phases of the process (prior to losing coverage, and once an individual has been disenrolled), thereby reducing incidences of churn and minimizing the period between coverage if it does happen.

1. The “Stay Covered Challenge” calls for the development of a marketing/outreach campaign designed for use by providers and community-based organizations in targeting individuals in Medicaid due to disability. For example, competitors should consider developing marketing materials communicating the importance of maintaining eligibility by responding to communications from the Medicaid agency, and by communicating to the agency about housing changes or other changes of circumstance that might impact program eligibility. The materials submitted as a part of the challenge competition will be evaluated as to how useful they would be in (1) targeting individuals experiencing or at risk of churn; and (2) fostering the use of the materials by the full range of providers and community-based organizations serving Medicaid populations with behavioral health needs.

2. As there is very limited data available on the recently disenrolled but eligible population, the “Churn Marketing Research Methodology Development Challenge” asks competitors to develop a research methodology on how to identify actionable marketing data on this group. The challenge will not involve the development of communications materials targeting these individuals. This challenge tasks researchers with developing a methodology for identifying the marketing communications profile of uninsured individuals who have been disenrolled from coverage affordability programs but remain eligible for enrollment.

SAMHSA asks that applicants consider the following components in their methodology for identifying this

target population:

• Thorough description of data set and data collection protocols, rationale for database selection, and limitations of the data set

• Sample selection criteria accurately meets criteria

• Analytic design plan includes: selecting sample based on criteria and running descriptive statistical tests on the data

• Description of the variables (level of measurement of each) and description of variable measurement (is the method reliable and valid)

• Differences in Medicaid and Health Exchange Enrollment policies across states, including eligibility criteria and administrative requirements

• Differences between individuals experiencing churn for different reasons (e.g. criminal justice involvement vs. relocation).

“Stay Covered Challenge”

Eligibility Rules for Participating in the Competition: To be eligible to win a prize under this challenge, an individual or entity

1. Shall have registered to participate in the competition under the rules promulgated by the Substance Abuse and Mental Health Services Administration (SAMHSA);

2. Shall have complied with all the requirements under this section;

3. In the case of a private entity, shall be incorporated in and maintain a primary place of business in the United States, and in the case of an individual, whether participating singly or in a group, must be a citizen or permanent resident of the United States; and

4. May not be a federal entity or federal employee acting within the scope of their employment;

5. May not be an HHS employee working on their application or submission during assigned duty hours;

6. May not be an employee of the Substance Abuse and Mental Health Services Administration;

7. Federal grantees may not use federal funds to develop COMPETES Act challenge applications unless consistent with the purpose of their grant award; and

8. Federal contractors may not use federal funds from a contract to develop COMPETES Act challenge applications or to fund efforts in support of a COMPETES Act challenge submission.

An individual or entity will not be deemed ineligible because the individual or entity used federal facilities or consulted with federal employees during a competition if the facilities and employees are made available to all individuals and entities participating in the competition on an equitable basis.

Registered participants will be required to agree to assume any and all risks and waive claims against the Federal Government and its related entities, except in the case of willful misconduct, for any injury, death, damage, or loss of property, revenue, or profits, whether direct, indirect, or consequential, arising from their participation in a competition, whether the injury, death, damage, or loss arises through negligence or otherwise.

All participants are required to provide written consent to the rules upon or before submitting an entry.

Registration Process for Participants: To register for this challenge participants should:

• Access the www.challenge.gov Web site and search for the “Stay Covered Challenge.”

○ A registration link for the challenge can be found on the landing page under the challenge description.

Amount of Prize for the “Stay Covered Challenge”

• Total: $50,000 in prizes

• First Place: $30,000

• Second Place: $15,000

• Third Place: $5,000

Awards may be subject to federal income taxes and HHS will comply with IRS withholding and reporting requirements, where applicable.

Basis Upon Which Winners Will Be Selected: The judging panel will make selections based upon the following criteria (100 points total):

1. Consideration of Medicaid and Health Exchange Enrollment processes in each state, including current mechanisms states and health plans use to communicate with enrollees regarding recertification (25 points).

2. Development of (1) Messages encouraging providers and community based organizations to reach out to persons experiencing or at risk of churn, and (2) messages for use by providers and CBOs in reaching out to persons experiencing or at risk of churn, on those eligible for Medicaid due to disability (25 points).

3. Demonstration of creative and innovative uses of multiple platforms of media, including but not limited to social media, mobile/smart phones, television, radio, and other traditional forms of outreach (25 points).

4. Demonstration of the potential to improve the health status of individuals with behavioral health needs which will be measured by the likelihood of increased coverage among this population as the result of these efforts. (25 points).

Additional Information: Ownership of intellectual property is determined by the following:

Each entrant retains title and full ownership of their submission. Entrants reserve all intellectual property rights not expressly granted under the challenge agreement.

By participating in the challenge, each entrant agrees to sponsor and administrate a limited, non-exclusive, royalty free, worldwide, license and right to reproduce, publically perform, publically display, and use the submission without limitation, for advertising and promotional purposes relating to the challenge.

“Churn Marketing Research Methodology Development Challenge”

Eligibility Rules for Participating in the Competition: To be eligible to win a prize under this challenge, an individual or entity

(1) Shall have registered to participate in the competition under the rules promulgated by the Substance Abuse and Mental Health Services Administration (SAMHSA);

(2) Shall have complied with all the requirements under this section;

(3) In the case of a private entity, shall be incorporated in and maintain a primary place of business in the United States, and in the case of an individual, whether participating singly or in a group, must be a citizen or permanent resident of the United States; and

(4) May not be a federal entity or federal employee acting within the scope of their employment

(5) May not be an HHS employee working on their application or submission during assigned duty hours;

(6) May not be an employee of the Substance Abuse and Mental Health Services Administration;

(7) Federal grantees may not use federal funds to develop COMPETES Act challenge applications unless consistent with the purpose of their grant award; and

(8) Federal contractors may not use federal funds from a contract to develop COMPETES Act challenge applications or to fund efforts in support of a COMPETES Act challenge submission.

An individual or entity will not be deemed ineligible because the individual or entity used federal facilities or consulted with federal employees during a competition if the facilities and employees are made available to all individuals and entities participating in the competition on an equitable basis.

Registered participants will be required to agree to assume any and all risks and waive claims against the Federal Government and its related entities, except in the case of willful misconduct, for any injury, death, damage, or loss of property, revenue, or profits, whether direct, indirect, or consequential, arising from their participation in a competition, whether the injury, death, damage, or loss arises through negligence or otherwise.

All participants are required to provide written consent to the rules upon or before submitting an entry.

Registration Process for Participants: To register for this challenge participants should: Access the www.challenge.gov Web site and search for the “Churn Marketing Research Methodology Development Challenge.”

○ A registration link for the challenge can be found on the landing page under the challenge description.

Amount of Prize for the “Churn Marketing Research Methodology Development Challenge”

• Total: $50,000 in prizes

• First Place: $30,000

• Second Place: $15,000

• Third Place: $5,000

Awards may be subject to federal income taxes and HHS will comply with IRS withholding and reporting requirements, where applicable.

Basis Upon Which Winner Will Be Selected: Applications should be no longer than 10 pages and include the following (100 points total):

1. Understanding the problem, including references from the available literature (20 points).

2. Description of the data, methods of analysis, characteristics of the population (60 points).

a. Data sets to be used and the applicant's access to the data—(10 points).

b. Methods of defining the population of interest—“churners”—(20 points)

c. Methods of defining the demographic, psychographic, and economic characteristics— (15 points)

d. Table shells (may be presented in an Appendix)—(15 points)

3. Personnel qualifications, including data analysis and technical resources available (resume may be presented in an Appendix)—(20 points)

Additional Information: Ownership of intellectual property is determined by the following:

Each entrant retains title and full ownership of their submission. Entrants reserve all intellectual property rights not expressly granted under the challenge agreement.

By participating in the challenge, each entrant agrees to sponsor and administrate a limited, non-exclusive, royalty free, worldwide, license and right to reproduce, publically perform, publically display, and use the submission without limitation, for advertising and promotional purposes relating to the challenge.

Source:

¹ Buettgens, M., Nichols, A., & Dorn, S. (2012). Churning Under the ACA and State Policy Options for Mitigation. Prepared for Robert Wood Johnson Foundation, Timely Analysis of Immediate Health Policy Issues, http://www.urban.org/UploadedPDF/412587-Churning-Under-the-ACA-and-State-Policy-Options-for-Mitigation.pdf.

Cathy J. Friedman,
Public Health Analyst, SAMHSA.

[FR Doc. 2013-16871 Filed 7-12-13; 8:45 am]

BILLING CODE 4162-20-P